DEPARTMENT OF HEALTH AND HUMAN SERVICES

Centers for Medicare & Medicaid Services

[CMS-5045-N2]

Medicare Program: Medicare Clinical Laboratory Services Competitive Bidding Demonstration Project

AGENCY: Centers for Medicare & Medicaid Services (CMS), HHS.

ACTION: Notice.

SUMMARY: This notice announces the new date for the Bidder's Conference for the Medicare Clinical Laboratory Services Competitive Bidding Demonstration project.

FOR FURTHER INFORMATION CONTACT: Linda Lebovic at (410) 786-3402 or lab_bid_ demo@cms.hhs.gov. Interested parties can obtain information about the demonstration project on the CMS Web site at http://www.cms.hhs.gov/DemoProjectsEvalRpts/downloads/2004_Demonstration_Competitive_Bidding_Clinical_Laboratory_Services.pdf.

SUPPLEMENTARY INFORMATION:

I. Background

On October 17, 2007, we published a notice in the Federal Register (72 FR 58856) announcing the first demonstration site for the Medicare Clinical Laboratory Services Competitive Bidding Demonstration Project and the date for the Bidder's Conference. The Bidder's Conference was to be held on October 31, 2007, in the San Diego-Carlsbad-San Marcos, California Metropolitan Statistical Area (MSA). Due to the State of Emergency related to fires in the State of California, we postponed the conference.

II. Provisions of the Notice

This notice announces the new date for the Bidder's Conference. The Bidder's Conference is scheduled for December 5, 2007 in the San Diego-Carlsbad-San Marcos, California MSA. We refer readers to the October 17, 2007 published notice (72 FR 58856) for information regarding the Clinical Laboratory Services Competitive Bidding Demonstration Project.

Authority: Section 302(b) of the Medicare Prescription Drug, Improvement, and Modernization Act of 2003 (MMA).

(Catalog of Federal Domestic Assistance Program No. 93.773 Medicare—Hospital Insurance Program; and No. 93.774, Medicare—Supplementary Medical Insurance Program).

Dated: November 16, 2007.
Kerry Weems,
Acting Administrator, Centers for Medicare & Medicaid Services.

[FR Doc. E7-22774 Filed 11-20-07; 8:45 am]

BILLING CODE 4120-01-P